DEPARTMENT OF HOMELAND SECURITY

Federal Emergency Management Agency

Agency Information Collection Activities: Proposed Collection; Comment Request

AGENCY: Federal Emergency Management Agency, Emergency Preparedness and Response Directorate, Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments on the information FEMA requires to address close basin lake continuous flooding events. The information is required by FEMA regulation 44 CFR part 61, Appendix A(2), Standard Flood Insurance Policy, section VII., General Conditions, T., Continuous Lake Flooding and FEMA Policy Guidance for Closed-Basin Lakes.

SUPPLEMENTARY INFORMATION: The information collections for closed basin lake endorsement under the standard flood insurance policy allows policyholders to file a total loss claim for an insured building that is actually damaged or under imminent threat of flooding before the structure has been inundated 90 days by lake water. State, local and tribal governments and property owners must meet specific requirements set forth in FEMA regulatory and policy guidance before policyholders can qualify for insurance claim benefits.

Collection of Information

Title: Closed-Basin Lake Endorsement Requirements.

Type of Information Collection: Revision of a currently approved collection.

OMB Number: 1660-0050.

Abstract: A closed basin lake is a natural lake from which water leaves primarily through evaporation and whose surface area now exceeds or has exceeded one square mile at any time in the recorded past. FEMA Regional Directors shall determine that State, local and tribal governments satisfy the FEMA regulatory and policy guidance (including that the local government or tribe has established new building restrictions and the State is providing the support needed to eliminate future flood losses) before policyholders can qualify for insurance claim benefits under the closed basin lake standard flood insurance policy endorsement.

The following information is required from State, local and tribal governments and property owners:

(1) A community, county, or other local jurisdiction must request in writing to the FEMA Regional Director, through the State National Flood Insurance Program (NFIP) Coordinating Agency, that a community or area be designated a “closed basin lake in order for homeowners and commercials interests to be eligible for a total loss claim under the closed basin lake standard flood insurance policy endorsement.

(2) State, local or tribal governments may request FEMA to amend the Flood Insurance Rate Map (FIRM) area of special consideration (ASC) to remove areas protected by the construction of additional certified flood control projects.

(3) State, local and tribal governments will conduct a risk assessment that:

(a) Identifies the number of structures at risk around the lake within the published ASC;

(b) Provides the current elevation of the structures and an assessment of insurance coverage;

(c) Identifies properties that have received previous flood insurance claim payments; and

(d) Identifies any new or ongoing construction within the published ASC.

(4) The State will enter into an agreement with FEMA prior to the provision of insurance claim payments. The agreement sets forth the actions the State will take to contribute to a permanent solution to the closed basin lake flooding problem and include the State's acknowledgment that relocation and acquisition of structures and property in the ASC may become a priority use of HMGP funds. Commitments in this agreement must be reflected in future FEMA/State agreements for Presidential disaster declarations.

(5) Tribes and local governments must:

(a) Participate in the NFIP (approved under OMB Number 1660-0004);

(b) Develop, adopt, and enforce permanent land use ordinances, or a temporary moratorium for a period not to exceed 6 months to be followed by a permanent land use ordinance, which prohibits the construction of any residential or commercial buildings within the ASC.

(c) Agree to notify in writing by “certified mail/return receipt requested” all owners of structures within the ASC. The notification must inform property owners of the requirement that flood insurance must be purchased by the date specified by the FEMA Regional Director and maintained continuously thereafter in order to be eligible to receive a claim payment.

(d) Agree to maintain any property acquired with FEMA grant funds as open space, and to hold, manage, and enforce all property protected by easements, unless the property with the easement is donated by the owner to a non-profit land trust organization.

(e) Agree to declare and report any violations of the ordinance to FEMA so that flood insurance to the building can be denied.

(f) Complete and submit a biennial report to FEMA on Closed Basin Lake Conservation Easements. This report enables FEMA to assist communities in maintaining the open space requirements of the endorsement easements and ensuring future accelerated claim benefits for structures in a community's flood prone ASC.

(6) Property owners who are eligible for the closed basin lake endorsement must:

(a) Buy flood insurance by the designated date and maintain it continuously until a claim is filed.

(b) Under an endorsement claim, buy back their structure at negotiated salvage value.

(c) Obtain an elevation certificate of the new structure location (approved under OMB Number 1660-0008).

(d) Agree to relocate their structure outside the ASC. Property owners have several options concerning the disposition of their vacated land located in the ASC. They can either:

(1) Donate vacated property to the local government or a land use management organization that will deed-restrict it; or

(2) Establish an easement on the property that permits only certain agricultural or recreational uses and continue to use it for one of these exclusive purposes; or

(3) Apply to the local government and the State to have the land acquired through the HMGP or FMA programs. This option requires an easement or deed restriction in perpetuity regardless of future certified flood control projects. An easement or deed restriction must be in place prior to the approval of any insurance claim under the closed basin lake endorsement.

Affected Public: Individuals or Households, Business or Other For Profit, and State, Local or Tribal Government.

Estimated Total Annual Burden Hours: 8,379.

FEMA information collections/forms | No. of respondents (A) | Frequency of response (B) | Hours per response (C) | Annual burden hours (A × B × C)
Letter Request to FEMA Through State NFIP For Designation in Program | 5 | 1 | .30 | 2.5
Request FEMA to amend Flood Insurance Rate Map (FIRM)/Area of Special Consideration (ASC) | 5 | 1 | 4 | 20
Conduct Risk Assessment | 5 | 1 | 84 | 4,200
Agreement Between FEMA & Tribal, State, and local Government. For A Solution to Closed-Basin Lake Flooding | 5 (Meeting with the Governor.) | 1 | 1 | 5
Develop, adopt, enforce permanent land use ordinance or establish a 6-month moratorium followed by a permanent land use ordinance | 5 | 1 | 3 | 15
Notification of Property Owners By Certified Mail Return Receipt Requested | 16,000 | 1 | .15 | 4,000
Agree to maintain any property acquired and hold, manage, and enforce all property protected by easements | 5 | 1 | 2 | 10
Declare and report violations of ordinances or complete and submit to FEMA the biennial report on closed basin lake easements | 330 | 1 (once every two years) | .50 | 825 (annually).
Agree to relocate outside the ASC and donate vacated property, establish an easement, or apply to local government and the State to have land acquired | 100 | 1 | 4 | 400
Buy back their structure at negotiated salvage value | 100 | 1 | 4 | 400
Totals | 16,031 | 7 | 88.45 | 8,379

Comments: Written comments are solicited to (a) Evaluate whether the proposed data collection is necessary for the proper performance of the agency, including whether the information shall have practical utility; (b) verify and evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472, e-mail address: InformationCollection@fema.gov, or facsimile number (202) 646-3347.

FOR FURTHER INFORMATION CONTACT: Contact Timothy Johnson, Insurance Examiner, Federal Insurance and Mitigation Administration, (202) 646-2791, facsimile number (202) 646-4327 or e-mail address: Timonthy.Johnson@fema.gov for additional information. You may contact Ms. Anderson for copies of the proposed information collection.

Dated: December 30, 2003.
Edward W. Kernan,
Division Director, Information Resources Management Division, Information Technology Services Directorate.

[FR Doc. 04-167 Filed 1-5-04; 8:45 am]

BILLING CODE 9110-11-P